PATENT AND TRADEMARK OFFICE

Electronic Response to Office Action and Preliminary Amendment Forms

ACTION: Proposed collection; comment request.

SUMMARY: The United States Patent and Trademark Office (USPTO), as part of its continuing effort to reduce paperwork and respondent burden, invites the general public and other Federal agencies to comment on the continuing information collection, as required by the Paperwork Reduction Act of 1995, Public Law 104-13 (44 U.S.C. 3506(c)(2)(A)).

DATES: Written comments must be submitted on or before November 19, 2007.

ADDRESSES: You may submit comments by any of the following methods:

• E-mail: Susan.Fawcett@uspto.gov. Include “0651-0050 comment” in the subject line of the message.

• Fax: 571-273-0112, marked to the attention of Susan Fawcett.

• Mail: Susan K. Fawcett, Records Officer, Office of the Chief Information Officer, Customer Information Services Group, Public Information Services Division, United States Patent and Trademark Office, P.O. Box 1450, Alexandria, VA 22313-1450.

FOR FURTHER INFORMATION CONTACT: Requests for additional information should be directed to Sharon Marsh, Deputy Commissioner for Trademark Examination Policy, Office of the Commissioner for Trademarks, United States Patent and Trademark Office, P.O. Box 1451, Alexandria, VA 22313-1451, by telephone at 571-272-8900, or by e-mail at Sharon.Marsh@uspto.gov.

SUPPLEMENTARY INFORMATION:

I. Abstract

This collection of information is required by the Trademark Act, 15 U.S.C. Section 1051, et seq., which provides for the Federal registration of trademarks, service marks, collective trademarks and service marks, collective membership marks, and certification marks. Individuals and businesses that use or intend to use such marks in commerce may file an application to register their marks with the United States Patent and Trademark Office (USPTO). In some cases, the USPTO may issue an Office Action to an applicant in order to request additional information that is required before a mark can be registered. The USPTO may also issue an Office Action to advise an applicant that a mark cannot be registered due to one or more provisions of the Trademark Act. Applicants may reply to these Office Actions by providing the required information or by putting forth legal arguments as to why the refusal of registration should be withdrawn.

Applicants may also supplement their applications by providing additional information voluntarily. When such information is provided before the USPTO has reviewed the application, the applicant may submit the additional information in the form of a Preliminary Amendment.

The forms in this collection are available in electronic format through the Trademark Electronic Application System (TEAS), which may be accessed on the USPTO Web site. The USPTO is proposing to add two forms to this information collection, Post Publication Amendment (PTO-1711) and Response to Suspension Inquiry or Letter of Suspension (PTO-1822). Applicants may file a Post Publication Amendment in order to submit a proposed amendment to an application that has already been approved for publication by the examining attorney. If an applicant receives a Suspension Inquiry or Letter of Suspension from the USPTO, the applicant may use the proposed response form to file a reply. Applicants may submit the two proposed new forms to the USPTO electronically through TEAS or submit the required information for the amendment or response to the USPTO on paper. The USPTO does not provide official forms for these paper submissions.

II. Method of Collection

By mail, facsimile, hand delivery, or electronic transmission.

III. Data

OMB Number: 0651-0050.

Form Number(s): PTO-1771, PTO-1882, PTO-1930, PTO-1957 and PTO-1966.

Type of Review: Revision of a currently approved collection.

Affected Public: Individuals or households; businesses or other for-profits; and not-for-profit institutions.

Estimated Number of Respondents: 158,300 responses per year, including 1,800 responses per year for Post Publication Amendments and 5,600 responses per year for the Response to Suspension Inquiry or Letter of Suspension.

Estimated Time per Response: The USPTO estimates that the public will require approximately 10 to 18 minutes (0.17 to 0.30 hours) to supply the information requested in this collection. Completion times may vary, depending upon the nature and amount of information requested in a particular Office Action.

Estimated Total Annual Respondent Burden Hours: 27,240 hours, including 495 hours for Post Publication Amendments and 1,092 hours for the Response to Suspension Inquiry or Letter of Suspension.

Estimated Total Annual Respondent Cost Burden: $8,280,960. The USPTO expects that the information in this collection will primarily be prepared by attorneys, though some submissions may be prepared by pro se applicants. Using the professional hourly rate of $304 for associate attorneys in private firms, the USPTO estimates that the respondent cost burden for submitting the information in this collection will be approximately $8,280,960 per year, including $482,448 for the proposed forms.

Item | Estimated time for response (minutes) | Estimated annual responses | Estimated annual burden hours
Post Publication Amendment (TEAS) | 15 | 900 | 225
Post Publication Amendment (paper) | 18 | 900 | 270
Response to Suspension Inquiry or Letter of Suspension (TEAS) | 10 | 2,800 | 476
Response to Suspension Inquiry or Letter of Suspension (paper) | 13 | 2,800 | 616
Total |  | 7,400 | 1,587

Estimated Total Annual Non-hour Respondent Cost Burden: $1,517. There are no capital start-up costs, maintenance costs, or filing fees associated with this information collection. However, customers may incur postage costs when submitting a Post Publication Amendment or Response to Suspension Inquiry or Letter of Suspension to the USPTO by mail. The USPTO estimates that it may receive up to 3,700 mailed submissions per year for these items with an estimated postage cost of 41 cents per response. Therefore, this collection has an annual (non-hour) cost of approximately $1,517 per year in the form of postage costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: September 12, 2007.
Susan K. Fawcett,
Records Officer, USPTO, Office of the Chief Information Officer, Customer Information Services Group, Public Information Services Division.

[FR Doc. E7-18567 Filed 9-19-07; 8:45 am]

BILLING CODE 3510-16-P